DEPARTMENT OF THE INTERIOR

Bureau of Land Management

[CO-840-1610-DQ]

Notice of Availability of Canyons of the Ancients National Monument Proposed Resource Management Plan and Final Environmental Impact Statement, Colorado

AGENCY: Bureau of Land Management, Interior.

ACTION: Notice of Availability.

SUMMARY: In accordance with the National Environmental Policy Act of 1969 and the Federal Land Policy and Management Act of 1976, the Bureau of Land Management (BLM) has prepared a Proposed Resource Management Plan/Final Environmental Impact Statement (PRMP/FEIS) for the Canyons of the Ancients National Monument.

DATES: The BLM planning regulations (43 CFR 1610.5-2) state that any person who meets the conditions as described in the regulations may protest the BLM's Proposed RMP. A person who meets the conditions and files a protest must file the protest within 30 days of the date that the Environmental Protection Agency publishes its notice in the Federal Register.

ADDRESSES: Copies of the Canyons of the Ancients National Monument PRMP/FEIS have been sent to affected Federal, Tribal, state, and local government agencies and to interested parties. Copies of the PRMP/FEIS are available for public review at:

• Anasazi Heritage Center, 27501 Highway 184, Dolores, CO 81323

• Dolores Public Lands Center, 29211 Highway 184, Dolores, CO 81323

• San Juan Public Lands Center, 15 Burnett Court, Durango, CO 81301

• Dolores Public Library, 420 Railroad Ave., Dolores, CO 81323

• Cortez Public Library, 202 N. Park, Cortez, CO 81321

• Mancos Public Library, 111 N. Main, Mancos, CO 81328

• Dolores County Extension Office, 409 N. Main, Dove Creek, CO 81324

• Durango Public Library, 1188 E. 2nd Ave., Durango, CO 81301

Interested persons may also review the PRMP/FEIS on the Internet at http://www.blm.gov/rmp/canm/. All protests must be in writing and mailed to the following addresses:

Regular Mail: Director (210), Attention: Brenda Williams, P.O. Box 66538, Washington, DC 20035.

Overnight Mail: Director (210), Attention: Brenda Williams, 1620 L Street, NW., Suite 1075, Washington, DC 20036.

FOR FURTHER INFORMATION CONTACT: Heather Musclow, Monument Planner, Canyons of the Ancients National Monument, 27501 Highway 184, Dolores, CO 81323; Phone: (970) 882-5632.

SUPPLEMENTARY INFORMATION: The planning area is located in southwest Colorado in Dolores and Montezuma Counties. The plan provides a framework to guide subsequent management decisions on approximately 166,000 acres managed by the BLM. Within the Monument boundary, there are approximately 400 acres of National Park Service lands (Hovenweep National Monument) and 17,560 acres of private inholdings. The Canyons of the Ancients National Monument is currently being managed under the BLM 1985 San Juan/San Miguel RMP and the Interim Guidance provided after the National Monument was established. The PRMP/FEIS will provide the management direction for the areas within the National Monument under BLM management.

Comments on the Draft RMP/EIS received from the public and the internal BLM review were considered and incorporated as appropriate into the proposed plan. Public comments resulted in the addition of clarifying text, but did not significantly change the proposed land use plan decisions.

Instructions for filing a protest with the Director of the BLM regarding the Proposed PRMP/FEIS may be found in the Dear Reader Letter of the Canyons of the Ancients National Monument PRMP/FEIS and at 43 CFR 1610.5-2. E-mail and faxed protests will not be accepted as valid protests unless the protesting party also provides the original letter by either regular or overnight mail postmarked by the close of the protest period. Under these conditions, the BLM will consider the e-mail or faxed protest as an advance copy of the protest and it will receive full consideration. If you wish to provide the BLM with such advance notification, please fax protests to the attention of the BLM protest coordinator at 202-452-5112, and e-mails to Brenda Hudgens-Williams@blm.gov.

All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Sally Wisely,
Colorado State Director.

[FR Doc. E9-18233 Filed 7-30-09; 8:45 am]

BILLING CODE P